DEPARTMENT OF STATE

22 CFR Part 42

[Public Notice: 6457]

RIN 1400-AB84

Visas: Documentation of Immigrants Under the Immigration and Nationality Act, as Amended: Electronic Petition for Diversity Immigrant Status

AGENCY: State Department.

ACTION: Final rule.

SUMMARY: This rule makes final an interim rule published in the Federal Register on August 18, 2003, amending the Department's regulations pertaining to the manner in which aliens may petition for the opportunity to participate in the Diversity Visa Program. The rule changed the standard mail-in system previously used to an entirely electronic system for the purpose of making the process less prone to fraud, improve efficiency and significantly reduce the processing costs to the Government.

DATES: Effective Date: This rule is effective on January 15, 2009.

FOR FURTHER INFORMATION CONTACT: Lauren Prosnik, Legislation and Regulations Division, Visa Services, Department of State, Washington, DC 20520-0106, (202) 663-1202, e-mail (prosnikla@state.gov).

SUPPLEMENTARY INFORMATION:

Why is the Department promulgating this rule?

The Department published an interim rule, Public Notice 4446 at 68 FR 49353, Aug. 18, 2003, with a request for comments. The comment period expired on October 17, 2003. No public comments were received during the comment period.

What did the rule do?

The rule amended the Department's regulations at 22 CFR 42.33 to establish an entirely electronic system utilizing a specifically designated Internet Web site, by which aliens can petition for the opportunity to participate in the Diversity Visa Program.

Why was the petitioning process changed?

There are three main benefits to changing the mail-in process to an electronic format. First, it helps eliminate multiple applications, prohibited under INA Section 204(a)(1)(I). Secondly, it greatly reduces the cost of administering the system. Finally, it benefits the petitioners by immediately notifying them of the receipt of the petition, impossible under the mail-in system.

PART 42—VISAS: DOCUMENTATION OF IMMIGRANTS UNDER THE IMMIGRATION AND NATIONALITY ACT, AS AMENDED

Accordingly, the interim rule amending 22 CFR part 42 which was published at 68 FR 49353 on August 18, 2003, is adopted as final without change.

Dated: January 2, 2009.
Janice L. Jacobs,
Assistant Secretary for Consular Affairs, Department of State.

[FR Doc. E9-698 Filed 1-14-09; 8:45 am]

BILLING CODE 4710-06-P